NUCLEAR REGULATORY COMMISSION

[Docket No. 50-482; NRC-2014-0054]

Wolf Creek Nuclear Operating Corporation; Wolf Creek Generating Station

AGENCY: Nuclear Regulatory Commission.

ACTION: License amendment application; withdrawal by applicant.

SUMMARY: The U.S. Nuclear Regulatory Commission (NRC) has granted the request of Wolf Creek Nuclear Operating Corporation to withdraw its application dated August 13, 2013, as supplemented by letters dated January 28, February 25, March 20, March 26, and May 13, 2014, for a proposed amendment to Facility Operating License No. NPF-42. The proposed amendment would have revised the Technical Specifications to replace the existing licensee methodologies for performing core design and safety analyses; adopted Option A of Technical Specification Task Force Traveler TSTF-493-A, Revision 4, “Clarify Application of Setpoint Methodologies for LSSS [Limiting Safety System Setting] Functions”; and adopted the alternative source term radiological analysis methodology.

ADDRESSES: Please refer to Docket ID NRC-2014-0054 when contacting the NRC about the availability of information regarding this document. You may obtain publicly-available information related to this document using any of the following methods:

• Federal Rulemaking Web site: Go to http://www.regulations.gov and search for Docket ID NRC-2014-0054. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Fred Lyon, Office of Nuclear Reactor Regulation, U.S. Nuclear Regulatory Commission, Washington DC 20555-0001; telephone: 301-415-2296 email: Fred.Lyon@nrc.gov.

SUPPLEMENTARY INFORMATION: The NRC has granted the request of Wolf Creek Nuclear Operating Corporation (the licensee) to withdraw its August 13, 2013, application, as supplemented by letters dated January 28, February 25, March 20, March 26, and May 13, 2014 (ADAMS Accession Nos. ML13247A076, ML14035A224, ML14063A371, ML14091A245, ML14091A261, and ML14143A006, respectively), for proposed amendment to Facility Operating License No. NPF-42 for the Wolf Creek Generating Station, located in Coffey County, Kansas.

The proposed amendment would have revised the Technical Specifications to replace the existing licensee methodologies for performing core design and safety analyses; adopted Option A of Technical Specification Task Force Traveler TSTF-493-A, Revision 4, “Clarify Application of Setpoint Methodologies for LSSS Functions;” and adopted the alternative source term radiological analysis methodology in accordance with 10 CFR 50.67, “Accident source term.”

The Commission had previously issued a Notice of Consideration of Issuance of Amendment published in the Federal Register on April 8, 2014 (79 FR 19402). However, by letter dated June 18, 2014 (ADAMS Accession No. ML14175A119), the licensee withdrew the proposed change.

Dated at Rockville, Maryland, this 25th day of June 2014.
For the Nuclear Regulatory Commission.
Carl F. Lyon,
Project Manager, Plant Licensing Branch IV-1, Division of Operating Reactor Licensing, Office of Nuclear Reactor Regulation.

[FR Doc. 2014-15689 Filed 7-2-14; 8:45 am]

BILLING CODE 7590-01-P